Proclamation 8378 of May 11, 2009

Peace Officers Memorial Day and Police Week, 2009

By the President of the United States of America

A Proclamation

Every day, peace officers put on their uniforms and go to work to safeguard America’s communities and uphold the freedoms we hold dear. This week we honor their contributions and sacrifice.

Law enforcement officers routinely place themselves in harm’s way to protect people they do not and will not know. They serve willingly and devotedly, and their commitment is essential for us to maintain a healthy quality of life, a strong economy, the safety of our families, and a robust national security system.

My Administration is working to keep Americans safe and to strengthen the Federal partnership with America’s peace officers. The American Recovery and Reinvestment Act, which I recently signed, makes $4 billion available for State and local law enforcement. This provision will save or create thousands of law enforcement jobs across the country through the revitalized Community Oriented Policing Services Hiring Recovery Program. The Recovery Act also provides $2 billion through the Edward Byrne Memorial Justice Assistance Grant Program. These measures will put more officers on the street and help those already serving to perform their jobs more effectively.

The benefits that peace officers provide come with great sacrifice. Every year, many give their lives in the performance of their duties. Their contributions live on in the communities they strengthened, and their service will never be forgotten. This week, as we recognize their commitment to duty, we renew our pledge to support their families and colleagues.

The President has been requested to designate May 15 of each year as Peace Officers Memorial Day in honor of all Federal, State, and local officers killed or disabled in the line of duty, and to designate that week as Police Week in recognition of their service given to the United States (36 U.S.C. 136-37).

NOW, THEREFORE, I, BARACK OBAMA, President of the United States of America, do hereby proclaim May 15, 2009, as Peace Officers Memorial Day and May 10 through May 16, 2009, as Police Week. I call upon all Americans to observe these events with appropriate ceremonies and activities. I also call on Governors of the United States and the Commonwealth of Puerto Rico, officials of the other territories subject to the jurisdiction of the United States, and appropriate officials of all units of government, to direct that the flag be flown at half staff on Peace Officers Memorial Day. I further encourage all Americans to display the flag at half staff from their homes and businesses on that day.

IN WITNESS WHEREOF, I have hereunto set my hand this eleventh day of May, in the year of our Lord two thousand nine, and of the Independence of the United States of America the two hundred and thirty-third.

[FR Doc. E9-11497

Filed 5-13-09; 11:15 am]

Billing code 3195-W9-P